DEPARTMENT OF HEALTH AND HUMAN SERVICES

Administration for Children and Families

Proposed Information Collection Activity; Comment Request

Proposed Projects

Title: Information Collections for the Interim Final Rule on Standards to Prevent, Detect, and Respond to Sexual Abuse and Sexual Harassment Involving Unaccompanied Children.

OMB No.: New Collection.

Description: In accordance with section 1101(c) of the Violence Against Women Reauthorization Act of 2013, Public Law 113-4 (VAWA 2013), the Administration for Children and families (ACF), Office of Refugee Resettlement (ORR) published an interim final rule (IFR) on December 24, 2014 setting forth standards to prevent, detect, and respond to sexual abuse and sexual harassment involving unaccompanied children (UC). The IFR requires care provider facilities to collect, report, and retain information to ensure care provider facilities are properly preventing, detecting, and responding to all incidents of sexual abuse and sexual harassment that occur while a UC is in ORR care and custody. The proposed information collections solicit information to document a care provider facility's efforts to do so. The proposed information collections associated with this rule include the following:

(1) Sexual Abuse Significant Incident Report Form: ORR requires care provider facilities to use this form to report allegations related to sexual abuse and sexual harassment to ORR so that ORR may be able to monitor and track allegations of sexual abuse and sexual harassment as well as ensure proper follow-up. All care provider facility staff, volunteers, and contractors are required to report to ORR and third-parties: any knowledge, suspicion, or information regarding an incident of sexual abuse or sexual harassment; retaliation; staff neglect or violation of responsibilities that may have contributed to an incident or retaliation; and allegations of sexual abuse or sexual harassment that occurred while the UC was at another care provider facility.

(2) Assessment of Risk Form: ORR requires care provider facilities to use this form to assess a UC's risk of being sexually abused or harassed or being sexually abusive or harassing other UC while in ORR care and custody. Care provider facilities will use this information to inform a UC's service assignments to reduce the risk of sexual abuse or sexual harassment by or upon a UC.

(3) Care Provider Incident Review Form: ORR requires care provider facilities to collect data and prepare a report at the conclusion of every investigation of sexual abuse and sexual harassment that was determined to be substantiated or unsubstantiated but not unfounded to ensure proper steps are taken following an investigation or allegation of sexual abuse and/or sexual harassment.

(4) Written policies: ORR requires care provider facilities to maintain written policies: mandating zero tolerance toward all forms of sexual abuse and sexual harassment and outlining the care provider facility's approach to detecting, preventing, and responding to such conduct that include outside agencies (e.g. victim advocates, counselors) in the facility's prevention and intervention protocols.

(5) Previous misconduct of job applicants: ORR requires care provider facilities to solicit information from job applicants and employees considered for promotion and in any written self-evaluations conducted as part of performance evaluations of current employees about previous misconduct related to sexual abuse and sexual harassment. This information will be used to ensure any previous misconduct is reviewed prior to hiring or promoting a potential or existing employee.

(6) Background checks: ORR requires care provider facilities to produce background investigation results and documentation to ORR upon request so that ORR can ensure background checks were conducted and to review background checks as necessary for potential employees at care provider facilities.

(7) Reporting misconduct of former employees: ORR requires care provider facilities to provide information on substantiated allegations of sexual abuse or sexual harassment involving a former employee upon request from another care provider facility or institutional employer from whom such individual is seeking employment. ORR requires this so that an employee with substantiated allegations against him/her at one ORR care provider facility is not employed at a different ORR care provider facility.

(8) Reporting to investigating authorities: ORR requires care provider facilities to report allegations of sexual abuse and sexual harassment, including allegations that occurred at another care provider facility, to ORR and all appropriate investigating authorities so allegations of sexual abuse and sexual harassment are investigated as appropriate.

(9) Document retention: ORR requires care provider facilities to maintain documentation related to sexual abuse and sexual harassment for at least 10 years.

(10) MOUs with investigating authorities: ORR requires care provider facilities to maintain agreements or documentation showing attempts to enter into agreements with local law enforcement, State or local Child Protective Services, and State or local licensing agencies. This is required to document completion of the requirement under the IFR.

(11) Training documentation: ORR requires care provider facilities to maintain written documentation that employees, contractors, volunteers, and medical and mental health practitioners employed or contracted by the care provider facility have completed required trainings on sexual abuse and sexual harassment prevention, detection, and response. This is required to document completion of the requirement under the IFR.

(12) Information for UCs: ORR requires care provider facilities to provide information to UCs regarding the care provider facility's zero tolerance policies, methods to report allegations, information on appropriate/inappropriate relationships, and to document the provision of such information. This is required of care provider facilities so that UCs know what to report, how to report, and the policies of the facility.

(13) MOUs with reporting entities: ORR requires care provider facilities to maintain agreements or document attempts to enter into agreements with external entities that can receive and immediately forward UC reports of sexual abuse and sexual harassment allegations to ORR. This is to ensure completion of the IFR requirements.

(14) Grievance procedures: ORR requires care provider facilities to maintain written procedures for identifying and handling time-sensitive grievances that involve immediate threats to a child's health, safety, or welfare related to sexual abuse and sexual harassment and reporting them to ORR. This is to ensure care provider facilities have procedures to handle time-sensitive grievances.

(15) Agreements with community service providers: ORR requires care provider facilities must maintain agreements or document attempts to enter into agreements with community service providers to provide legal advocacy and confidential emotional support services for victims of sexual abuse and sexual harassment. This is to ensure that care provider facilities comply with the IFR requirements.

(16) Third party reporting: ORR is required to establish a method to receive third-party reports of sexual abuse and sexual harassment that occur at ORR care provider facilities. This provides a way for third-parties to report allegations to ORR.

(17) Reporting to parent/legal guardian: ORR requires care provider facilities to disclose allegations of sexual abuse and sexual harassment to the victim's parents or legal guardian, except in cases where doing so would endanger the safety or well-being of the UC.

(18) Reporting to attorney of record: ORR requires care provider facilities to disclose allegations of sexual abuse and sexual harassment to the victim's attorney of record, if applicable.

(19) Reporting staff, contractors, and volunteers to investigating authorities: ORR requires care provider facilities to report to law enforcement agencies and to any relevant state or local licensing agency any staff, contractor, or volunteer who was terminated or resigned because of a violation of care provider facility sexual abuse or sexual harassment policies or procedures.

(20) Annual reports: ORR requires care provider facilities to conduct an annual review of all sexual abuse and sexual harassment investigations and provide the results to ORR so that ORR can gather aggregate data from all ORR care provider facilities.

(21) Quarterly reporting: ORR requires the care provider facility's PSA Compliance Manager to prepare a quarterly report for ORR compiling information and aggregate incident-based sexual abuse and sexual harassment data in order for ORR to review data on a regular basis.

(22) Other data: ORR requires care provider facilities to provide data or information to ORR upon request.

(23) Audit report: ORR requires one audit report for each facility within the first three years of the rule's publication and once every three years thereafter. Audits will certify that care provider facilities meet the standards required by the IFR. Audit reports will be provided to ORR so ORR can ensure that all care provider facilities are compliant with the IFR.

Respondents: Care provider facility service staff, contractors, volunteers, family members and friends of UC, and auditors.

Annual Burden Estimates
Instrument | Number of respondents | Number of responses per respondent | Average burden hours per response | Total burden hours
Sexual Abuse Significant Incident Report Form | 2,430 | 1 or more | 0.5 | 1,215 or more.
Assessment of Risk Form | 57,500 | 1 | 0.17 | 9,775.
Care Provider Incident Review Form | 2,430 | 1 | 0.5 | 1,215.
Written policies | 120 | 1 | 2 | 240.
Previous misconduct | 7,479 | 1 or more | 0.33 | 2,468.
Background checks | 748 | 1 or more | 0.1 | 74.8.
Reporting misconduct of former employees | 75 | 1 | 0.33 | 25.
Reporting to investigating authorities | 2,430 | 1 or more | 0.33 | 802 or more.
MOUs with investigating authorities | 120 | 2 or more | 0.33 | 79 or more.
Training documentation | 7,479 | 1 | 0.17 | 1,271.
Information for UCs | 57,500 | 1 | 0.25 | 14,375.
MOUs with reporting entities | 120 | 1 | 0.25 | 30.
Grievance procedures | 120 | 1 | 0.5 | 60.
Agreements with local service providers | 120 | 1 or more | 1 | 120.
Third Party reporting | 73 or more | 1 | 0.25 | 18 or more.
Disclosure to parent/guardian | 2,430 | 1 | 0.17 | 413.
Disclosure to atty of record | 972 | 1 | 0.17 | 165.
Reporting staff, contractors, and volunteers to investigating authorities | 25 | 1 | 0.25 | 6.
Annual reports | 120 | 1 | 4 | 480.
Quarterly reports | 120 | 4 | 2 | 960.
Other data | 120 | 20 or more | 0.25 | 600.
Audit report | 40 | 1 | 8 | 320.

Estimated Total Annual Burden Hours: 34,713.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-01372 Filed 1-26-15; 8:45 am]

BILLING CODE 4184-01-P